NUCLEAR REGULATORY COMMISSION

Discrimination Task Group; Notice of Meetings

In August 2000, the NRC announced the formation of a Discrimination Task Group, which is evaluating the NRC processes used in the handling of discrimination allegations and violations of employee protection standards (Applicable regulations include 10 CFR 30.7, 10 CFR 40.7. 10 CFR 50.7, 10 CFR 60.9, 10 CFR 61.9, 10 CFR 70.7, 10 CFR 76.7, 10 CFR 72.10, 10 CFR 150.20). The group is a management-level review group which is evaluating the Commission's handling of discrimination cases.

The group has developed draft recommendations for changes to the regulatory requirements, the enforcement policy or other agency guidelines as appropriate. The draft recommendations have been released for public comment and can be obtained via the Office of Enforcement web site at http://www.nrc.gov/OE/. Following a pubic comment period on the draft that expires on August 17, 2001, the Task Group will develop a Commission Paper outlining the final recommendations for NRC offices to consider in making changes to their processes.

The Task Group is holding several public stakeholder meetings in various areas of the country to solicit comment on the draft recommendations for changes in the Agency's handling of discrimination issues.

—A public meeting will be held in Chattanooga, TN, on June 25, 2001, at the USNRC Technical Training Center, Osborne Office Center, 5746 Marlin Road, Chattanooga TN 37411 This will be an evening meeting from 7 p.m. to 9 p.m.

—A public meeting will be held, on July 11, 2001, at the USNRC Region III offices located 801 Warrenville Road, Lisle, IL 60532. This will be an evening meeting from 7 p.m. to 9 p.m.

—A public meeting will be held, on July 12, 2001, in Paducah, KY, at the Paducah Community College Engineering Building, Crounse Hall Main Lecture Hall, 4810 Alben Barkely Drive, Paducah, KY. This will be an evening meeting from 7 p.m. to 9 p.m.

—A public meeting will be held on August 9, 2001, at the San Luis Obispo Public Library, Library Conference Room, 995 Palm Street, San Luis Obispo CA. This will be an evening meeting from 7 p.m. to 9 p.m.

—A public meeting will be held on August 14, 2001, at the Waterford Town Hall, 15 Rope Ferry Road, Waterford, CT This will be an evening meeting from 7 p.m. to 9 p.m.

—A public meeting will be held on August 16, 2001, at the USNRC offices in the TWFN Auditorium, located at 11555 Rockville Pike, Rockville, Maryland. The meeting will start at 9:30 a.m.

These meetings are open to the members of the public. Oral or written views regarding the NRC's draft recommendations for improving processes for handling employee protection issues may be presented by the members of the public, including members of the nuclear industry. Persons desiring to make prepared oral presentations or statements should notify Mr. Barry Westreich (Telephone 301/415-3456, e-mail BCW@nrc.gov) five days prior to the meeting date, if possible, so that appropriate arrangements can be made to allow necessary time during the meeting for such a presentation or statements. Use of still, motion picture, and television cameras as well as audio recording devices will be permitted during these meetings.

Further information regarding topics of discussion, whether the meeting has been canceled, rescheduled, or relocated; may be obtained via the Office of Enforcement web site at http://www.nrc.gov/OE or by contacting Mr. Barry Westreich between 8 a.m. and 4:30 p.m. EDT.

For those unable to attend one of the public meetings on this issue, comments on the draft report can be submitted via the Office of Enforcement web site at http://www.nrc.gov/OE. and may also be submitted in writing addressed to Barry Westreich, Office of Enforcement, U.S. Nuclear Regulatory Commission 11555 Rockville Pike, Rockville, MD, 20852.

This meeting will not be transcribed but, if needed, a meeting report will be available electronically for public inspection on the Office of Enforcement web site at http://www.nrc.gov/OE and in the NRC Public Document Room or from the Publicly Available Records (PARS) component of NRC's document system (ADAMS). ADAMS is accessible from the NRC web site at http://www.nrc.gov/NRC/ADAMS/index.html (the Public Electronic Reading Room). The Task Group Charter and other pertinent documents related to Task Group Activities will also be periodically posted and updated on the Office of Enforcement web site.

Dated at Rockville, Maryland this 11th Day of June 2001.
For the Nuclear Regulatory Commission.
Frank Congel,
Director, Office of Enforcement.

[FR Doc. 01-15372 Filed 6-18-01; 8:45 am]

BILLING CODE 7590-01-P